DEPARTMENT OF DEFENSE

Department of the Army; Corps of Engineers

Adoption of Alternative Arrangements Under the National Environmental Policy Act for New Orleans Hurricane and Storm Damage Reduction System

Correction

In notice document E7-4515 beginning on page 11337 in the issue of Tuesday, March 13, 2007, make the following correction:

On page 11338, in the first column, under the heading FOR FURTHER INFORMATION CONTACT, in the last two lines, the e-mail address “mvnenvironmental

pd@mvn02.usace.army.mil” should read “mvnenvironmental

@mvn02.usace.army.mil”.

[FR Doc. Z7-4515 Filed 3-16-07; 8:45 am]

BILLING CODE 1505-01-D

SECURITIES AND EXCHANGE COMMISSION

[Release No. 34-55371; File No. SR-Phlx-2007-06]

Self-Regulatory Organizations; Philadelphia Stock Exchange, Inc.; Notice of Filing and Immediate Effectiveness of Proposed Rule Change Relating to Port Fees as Modified by Amendment No. 1

Correction

In notice document E7-3916 beginning on page 10287 in the issue of Wednesday, March 7, 2007, make the following correction:

On page 10288, in the second column, in the first paragraph, in the last two lines, “March 27, 2007” should read “March 28, 2007”.

[FR Doc. Z7-3916 Filed 3-16-07; 8:45 am]

BILLING CODE 1505-01-D

SECURITIES AND EXCHANGE COMMISSION

[File No. 500-1]

In the Matter of Certain Companies Quoted on the Pink Sheets: Advanced Powerline Technologies Inc.; America Asia Petroleum Corp.; Amerossi Int'l Group, Inc.; Apparel Manufacturing Associates, Inc.; Asgard Holdings Inc.; Biogenerics Ltd.; China Gold Corp.; CTR Investments & Consulting, Inc.; DC Brands International, Inc.; Equal Trading, Inc.; Equitable Mining Corp.; Espion International, Inc.; Goldmark Industries, Inc.; GroFeed Inc.; Healtheuniverse, Inc.; Interlink Global Corp.; Investigative Services Agencies, Inc.; iPackets International, Inc.; Koko Petroleum Inc.; Leatt Corporation; LOM Logistics, Inc.; Modern Energy Corp.; National Healthcare Logistics, Inc.; Presidents Financial Corp.; Red Truck Entertainment Inc.; Relay Capital Corp.; Rodedawg International Industries, Inc.; Rouchon Industries, Inc.; Software Effective Solutions Corp.; Solucorp Industries Ltd.; Sports-stuff.com Inc.; UBA Technology, Inc.; Wataire Industries Inc.; WayPoint Biomedical Holdings, Inc.; Wineco Productions Inc.; Order of Suspension of Trading

Correction

In notice document 07-1163 beginning on page 11409 in the issue of Tuesday, March 13, 2007, make the following correction:

On page 11409, in the third column, the subject heading should read as set forth above.

[FR Doc. C7-1163 Filed 3-16-07; 8:45 am]

BILLING CODE 1505-01-D